DEPARTMENT OF THE INTERIOR

Bureau of Land Management, Interior

[CA680-1220-FU]

Notice of Intent To Collect Fees on Public Land in San Bernardino County, CA Under the Federal Lands Recreation Enhancement Act (REA)

AGENCY: Bureau of Land Management, Interior.

ACTION: Notice of Intent to Collect Fees on Public Land in the El Mirage Cooperative Management Area, in San Bernardino County, California.

SUMMARY: Pursuant to applicable provisions of the Federal Lands Recreation Enhancement Act (REA), 16 U.S.C. 6801 et seq., the Bureau of Land Management's (BLM) Barstow Field Office proposes to begin collecting fees in fiscal year 2008 at the El Mirage Cooperative Management Area in San Bernardino County, California. (SBBM, T.7N., R.7W., Sec. 11 through 14, 22 through 28, 33 through 36, SBBM, T.7N., R.6W., Sec. 18 through 24, 26 through 34, SBBM, T.6N., R.7W., Sec. 1 through 4, 12, SBBM, T.6N., R.6W., Sec. 4 through 9).

DATES: The public is encouraged to participate during the public comment period that will expire 30 days after publication of this notice in the Federal Register. Effective six months after the publication of this notice, the BLM's Barstow Field Office would initiate fee collection in the El Mirage Cooperative Management Area, unless the BLM publishes a Federal Register notice to the contrary. The Pacific Southwest Region Recreation Resource Advisory Committee (RRAC) will review the new fee well in advance of the proposed initiation date. Future adjustments in the fee amount will be modified in accordance with the BLM Barstow Field Office Business Plan, consultation with the Pacific Southwest Region RRAC, and other public notices prior to a fee increase.

ADDRESSES: Mail: Field Manager, Bureau of Land Management, Barstow Field Office, 2601 Barstow Road, Barstow, CA 92311.

FOR FURTHER INFORMATION CONTACT: Roxie C. Trost, Field Manager, Barstow Field Office, 2601 Barstow Road, Barstow, CA 92311.

SUPPLEMENTARY INFORMATION: The El Mirage Cooperative Management Area qualifies as a site wherein visitors can be charged a “Special Recreation Permit Fee” authorized under section 3(h) of the Federal Lands Recreation and Enhancement Act (REA), 16 U.S.C. 6801 et seq. In accordance with REA, and implementing regulations at 43 CFR Part 2930, visitors participating in OHV use (e.g., 4-wheel drive vehicles, ATVs, motorcycles, quads, wind sails), would purchase a Special Recreation Permit (SRP) to operate their vehicle within the cooperative use area. The operators of each primary entry vehicle operating within the recreation area would be required to purchase and display the permit. Permits would expire on September 30 following issuance, regardless of when the permit was purchased. An opportunity to purchase an individual SRP pass either for the day or for a 7-day period would be available onsite to facilitate less frequent users. The BLM provides individual special recreation permits for management of special areas as specified in 43 CFR 2932.11. and in REA under section 3(h). The America the Beautiful—The National Parks and Federal Recreational Lands Pass (i.e., the Interagency Annual Pass, Interagency Senior Pass, Interagency Access Pass, and Interagency Volunteer Pass) would not be honored and do not apply to the SRP fee. The National Parks Pass with Golden Eagle Hologram, Golden Eagle, Golden Age, and Golden Access Passports would also not be honored and do not apply to the SRP fee. The El Mirage Cooperative Management Area is a popular off-highway vehicle recreation area offering significant opportunities for outdoor recreation and has received substantial Federal investment. The BLM's commitment is to find the proper balance between public use and the protection of resources. The BLM's policy is to collect fees at all specialized recreation sites, or where the BLM at Federal expense provides facilities, equipment or services in connection with outdoor use. In an effort to meet increasing demands for services and maintenance of existing facilities, routes and trails, the BLM would implement a fee program for the El Mirage Cooperative Management Area. The BLM's mission for the El Mirage Cooperative Management Fee Collection Project (Project) is to ensure that funding is available to maintain existing facilities and recreational opportunities, to provide for law enforcement presence, to develop additional services, and to protect resources. This mission entails communication with those who will be most directly affected by the Project, including recreationists, other recreation providers, neighbors, and those who will have a stake in solving concerns that may arise throughout the life of the Project, such as elected officials and other agencies.

On August 24, 1990, the BLM published the final Management Plan and Environmental Assessment (EA) for the El Mirage Cooperative Management Area. This Management Plan and EA considered various ways to minimize the potential for resource damage from authorized uses, including cross-country OHV use. The BLM signed a decision record for this EA on January 19, 1990 and subsequently signed a Decision Record approving the proposed action in the Management Plan on June 29, 1990. The County of San Bernardino, County of Los Angeles, and California Off-Highway Motor Vehicle Recreation Commission and Division, as cooperators to the El Mirage Cooperative Management Area, signed their concurrence with the actions in the Management Plan in June 1990.

In December 2004, REA was signed into law. REA provides authority for 10 years for the Secretaries of the Interior and Agriculture to establish, modify, charge, and collect recreation fees for use of some Federal recreation lands and waters, and contains specific provisions addressing public involvement in the establishment of recreation fees, including a requirement that Recreation Resource Advisory Committees or Councils have the opportunity to make recommendations regarding establishment of such fees. REA also directs the Secretaries of the Interior and Agriculture to publish advance notice in the Federal Register whenever new recreation fee areas are established under their respective jurisdictions.

The 1990 Management Plan allows for recreation opportunities, the issuance of use permits, and the charging of fees for each primary vehicle for use of the El Mirage Cooperative Management Area. The Barstow Field Office Business Plan prepared pursuant to REA and BLM recreation fee program policy also addresses the establishment of a permit process and the collection of user fees. This Business Plan, in conjunction with the Management Plan, establishes the rationale for charging recreation fees. In accordance with the BLM recreation fee program policy, the Business Plan explains the fee collection process, and outlines how the fees will be used at the El Mirage Cooperative Management Area. The BLM has notified and involved the public at each stage of the planning process, including the proposal to collect fees. Fee amounts will be posted on-site, and at the Barstow Field Office, and copies of the Business Plan will be available at the Barstow Field Office and the BLM California State Office.

The BLM welcomes public comments on this proposal. Before including your address, phone number, e-mail address, or other personal identifying information in your comment, be advised that your entire comment—including your personal identifying information—may be made publicly available at any time. While you can ask us in your comment to withhold from public review your personal identifying information, we cannot guarantee that we will be able to do so.

Authority: 16 U.S.C. 6803(b); 43 CFR 2932.13.

Roxie C. Trost,
Field Manager, Barstow Field Office.

[FR Doc. E7-15618 Filed 8-9-07; 8:45 am]

BILLING CODE 4310-40-P